NATIONAL INDIAN GAMING COMMISSION

25 CFR Part 559

RIN 3141-AA83

Facility License Notifications; Withdrawal

AGENCY: National Indian Gaming Commission

ACTION: Direct final rule; withdrawal.

SUMMARY: Due to the receipt of adverse comments, the National Indian Gaming Commission (NIGC) is withdrawing the direct final rule “Facility License Notifications,” published September 29, 2025.

DATES: Effective November 24, 2025, the direct final rule published at 90 FR 46470, September 29, 2025, is withdrawn.

FOR FURTHER CONTACT INFORMATION CONTACT: Jo-Ann M. Shyloski, Office of General Counsel at the National Indian Gaming Commission, at (202) 632-7003 or info@nigc.gov.

SUPPLEMENTARY INFORMATION: On September 29, 2025, the NIGC published a direct final rule (90 FR 46470). We stated in that direct final rule that if we received adverse comments by October 29, 2025, the direct final rule would not take effect, and we would publish a timely withdrawal in the Federal Register. The NIGC subsequently received adverse comments on that direct final rule and is therefore withdrawing this direct final rule. The NIGC may issue a notice of proposed rulemaking in a future edition of the Federal Register to initiate action to repromulgate the rule that is withdrawn today. In any such action, the NIGC would address the adverse comments it received on the direct final rule.

National Indian Gaming Commission.
Sharon M. Avery,
Acting Chairwoman.
Jean Hovland,
Vice Chair.

[FR Doc. 2025-21347 Filed 11-25-25; 8:45 am]

BILLING CODE 7565-01-P